DEPARTMENT OF VETERANS AFFAIRS

[OMB Control No. 2900-0820]

Agency Information Collection Activity: Adaptive Sport Grant Application; Withdrawn

AGENCY: Veterans Heath Administration, Department of Veterans Affairs.

ACTION: Notice; withdrawal.

SUMMARY: On January 19, 2023, the Veterans Heath Administration (VHA), published a notice in the Federal Register announcing an opportunity for public comment on the proposed collection Adaptive Sport Grant Application (i.e., VA Form 10096). This notice was published before the 60-day Federal Register Notice closed by error; therefore, this document corrects that error by withdrawing this FR notice, document number 2023-01003.

DATES: As of January 23, 2023, the FR notice published at 88 FR 3779 on Friday, January 20, 2023, is withdrawn.

FOR FURTHER INFORMATION CONTACT: Maribel Aponte, Office of Enterprise and Integration, Data Governance Analytics (008), 810 Vermont Ave. NW, Washington, DC 20006, (202) 266-4688 or email maribel.aponte@va.gov.

SUPPLEMENTARY INFORMATION: FR Doc. 2023-01003, published on Friday, January 20, 2023 (88 FR 3779), is withdrawn by this notice.

By direction of the Secretary.
Maribel Aponte,
VA PRA Clearance Officer, Office of Enterprise and Integration/Data Governance Analytics, Department of Veterans Affairs.

[FR Doc. 2023-01557 Filed 1-25-23; 8:45 am]

BILLING CODE 8320-01-P